DEPARTMENT OF TRANSPORTATION

Federal Motor Carrier Safety Administration

[Docket No. FMCSA-2000-8410]

Younger Commercial Driver Pilot Training Program

AGENCY: Federal Motor Carrier Safety Administration (FMCSA), DOT.

ACTION: Notice of denial of petition to initiate a pilot program.

SUMMARY: The FMCSA denies the petition of the Truckload Carriers Association (TCA) asking the agency to conduct a pilot program that would enable certain drivers between the ages of 18 and 21 (younger drivers) to operate commercial motor vehicles (CMVs) in interstate commerce. The pilot program proposed by TCA would screen candidate drivers, train them extensively at approved truck-driving schools, and provide an apprenticeship with an approved motor carrier until age 21. The FMCSA is denying the petition because the agency does not have sufficient information at this time to make a determination that the safety measures in the pilot program are designed to achieve a level of safety equivalent to, or greater than, the level of safety provided by complying with the minimum 21-year age requirement to operate a CMV.

DATES: The denial of this petition is effective June 9, 2003.

FOR FURTHER INFORMATION CONTACT: Mr. Robert F. Schultz, Jr., Driver and Carrier Operations Division, Office of Bus and Truck Standards and Operations, MC-PSD, (202) 366-4001, Federal Motor Carrier Safety Administration, 400 Seventh Street, SW., Washington, DC 20590-0001.

SUPPLEMENTARY INFORMATION:

Electronic Access

Internet users may access all notices and comments submitted to the Docket Clerk concerning this subject by using the universal resource locator (URL): http://dms.dot.gov. The FMCSA docket number is FMCSA-2000-8410. It is available 24 hours a day, year round. Please follow the instructions online for more information and help.

An electronic copy of this document may be downloaded using a modem and suitable communications software from the Government Printing Office's Electronic Bulletin Board Service at (202) 512-1661. Internet users can reach the Office of the Federal Register's home page at http://www.archives.gov/federal_register and the Government Printing Office's Web site at http://www.access.gpo.gov/nara.

Background

A pilot program is a study in which a person or class of persons subject to the Federal Motor Carrier Safety Regulations (FMCSRs) may receive temporary relief from one or more of the regulations. A person, or class of persons, that intend to engage in a regulated activity may also receive temporary relief during the activity. The FMCSA's regulations governing pilot programs are set forth in title 49, Code of Federal Regulations (CFR) part 381, subpart D. During the program, participants are given an exemption from one or more of the following parts of title 49: 382, 383, 391, 392, 393, 395, 396 (except § 396.25, Qualifications of Brake Inspectors), and 399.

Pilot programs can be initiated by the agency in several ways. The FMCSA may initiate a pilot program when it determines that there may be an effective alternative to one or more of the FMCSRs, but is lacking sufficient research data or information to support a change in its rules. Or, an individual or class of persons may submit a written petition asking the agency to initiate the pilot program. (49 CFR 381.405)

A pilot program must include a program plan outlining oversight procedures designed to protect the health and safety of study participants and the general public. The plan must explain how the agency will ensure that participants comply with the terms and conditions of the pilot. In addition, the number of the participants in the pilot program must be large enough to ensure statistically valid findings. When the FMCSA has determined that the program plan is sound, there is one additional requirement that must be satisfied before the agency can grant an exemption from the FMCSRs and initiate a pilot program. The agency must ensure that the safety measures in the pilot program are “designed to achieve a level of safety that is equivalent to, or greater than, the level of safety that would be achieved by compliance with the regulations.” 49 CFR 381.505(a).

TCA Petition

On October 2, 2000, the TCA petitioned the FMCSA to allow the association to conduct a pilot program that would permit drivers between the ages of 18 and 21 to operate CMVs in interstate commerce. FMCSA regulations require drivers of CMVs to be at least 21 years of age (49 CFR 391.11(b)(1)). The petitioner asked the FMCSA to grant an exemption from the minimum 21-year age requirement for drivers admitted to the three-year pilot program. No driver under the age of 18 would be eligible to participate in the pilot. A copy of the TCA petition is located in the FMCSA docket (Docket No. FMCSA-2000-8410; see “Electronic Access” above).

The goal of the TCA pilot program is to explore a performance-based alternative to the blanket prohibition against the operation of CMVs in interstate commerce by drivers under the age of 21. The TCA petition states, “the right student with the right training, and working for the right employer [could] * * * be a safe driver” (TCA Petition, page 9). In addition, the petitioner feels that lowering of the 21-year minimum age of drivers would address the shortage of drivers in the trucking industry, and allow the industry to appeal more readily to individuals as they leave high school and select a career.

The petition calls for careful screening of candidate drivers. Applicants would be required to be between 18 and 21 years of age, have at least a year of prior driving experience, and be able to demonstrate an exemplary driving record. A qualified third party expert would determine that the applicant-driver possesses the attitude and aptitude for successfully operating a CMV. Applicants would also have to convince a motor carrier to “sponsor” their participation in the pilot; a written contract of employment between the applicant and a sponsoring motor carrier for the full term of the pilot would be required. The sponsoring motor carrier would also have to obtain liability insurance on the pilot driver. Once selected, pilot drivers would be granted an exemption from the current FMCSA rule requiring drivers to be at least 21 years of age to operate a CMV in interstate commerce. The pilot drivers would be required to undertake 22 weeks of classroom and hands-on driving instruction at a certified truck-driving school. An 8-week “finishing program” and an additional 18 weeks of “team driving” with an experienced licensed driver would follow this. This would be followed by full-time employment as an interstate CMV driver, but in a structured environment provided by the sponsoring motor carrier in accordance with the terms of the pilot. In addition, the sponsoring motor carrier would provide a current licensed driver to serve as mentor to the pilot driver and to be responsible for closely monitoring the safety performance of the pilot driver. Also, the CMV operated by the pilot driver would be equipped with a governor to limit the speed of the vehicle. These conditions would apply until the pilot driver turned 21 years of age.

On February 20, 2001, the FMCSA published a notice advising the public of the TCA petition and requesting public comment on it (66 FR 10935). This notice was titled, “Younger Commercial Driver Pilot Training Program.” The notice included six “Questions for Comment” designed to elicit input from the public to assist the agency in deciding whether to initiate the proposed pilot program for younger drivers of CMVs.

Discussion of Comments

The agency received 1,634 comments in response to the proposal. Over 90 percent of the commenters were opposed to the pilot program. The following table provides a summary of the docket comments categorized by the type of commenter. —

Summary of the Comments
Total Comments | 1,634
In Support— | 85
Opposition— | 1,511
No Strong Preference— | 38
Comments from Individual Truck Drivers | 314
In Support— | 29
Opposition— | 275
No Strong Preference— | 10
Comments from Individuals Other Than Truck Drivers | 1233
In Support— | 28
Opposition— | 1,188
No Strong Preference— | 17
Comments from Motor Carriers | 21
In Support— | 3
Opposition— | 18
No Srong Preference— | 0
Comments from Motor Carrier Associations | 10
In Support— | 6
Opposition— | 2
No Strong Preference— | 2
Comments from Insurance Companies | 3
In Support— | 1
Opposition— | 2
No Strong Preference— | 0
Comments from Insurance Associations | 3
In Support— | 0
Opposition— | 3
No Strong Preference— | 0
Comments from State Agencies | 19
In Support— | 7
Opposition— | 7
No Strong Preference— | 5
Comments from Driving Schools | 4
In Support— | 3
Opposition— | 1
No Strong Preference— | 0
Comments from Other Organizations | 27
In Support— | 8
Opposition— | 15
No Strong Preference— | 4

The most common reason given by those opposed to the younger commercial driver pilot training program was that younger drivers do not have the level of maturity or the driving experience necessary to operate a commercial motor vehicle in interstate commerce. Many of the commenters believed that individuals between the ages of 18 and 21, as a group, exercise poor judgment too frequently. To a lesser degree, those opposed to the pilot commented that the modern CMV was too complex for an individual under the age of 21 to operate. Several commenters referred to the difficulty employers of pilot drivers could expect in locating insurance companies willing to underwrite the liability insurance for these young CMV drivers.

Most of the commenters (whether in favor or in opposition to the proposal) did not offer data in support of their position. Frequently, commenters' positions or arguments were based on media coverage (radio, television, or magazine) of the younger commercial driver pilot training program proposal, and did not discuss any specific terms of the pilot outlined in the agency's notice of February 20, 2001. Comments, such as, “I saw this program described on the news last night,” or “I read about this pilot program in a “ [trade] magazine,” were common. Many commenters did not discuss specific aspects of the TCA proposal designed to minimize the risks of the pilot program, such as, the screening of applicant-drivers, the extensive training, and the oversight and mentoring of pilot drivers by sponsoring motor carriers. Very few commenters answered any of the six questions that the agency posed in the notice. Many commenters simply stated their belief that it was unsafe to permit any individual under the age of 21 to operate a CMV under any conditions.

The comments that were supported by data came from a variety of sources, including insurance associations, safety organizations, trucking associations, trucking companies, truck driving schools, and State agencies concerned with highway safety. Most of the insurance industry organizations that responded to the notice were opposed to the pilot. Opposition in this group centered upon studies indicating that drivers under age 25 have a markedly higher crash risk than older drivers, and upon the contention that “driver training” has been shown to have little effect in reducing the crash risk. The Insurance Institute for Highway Safety stated, “[t]here is much research and it unequivocally shows that young truck drivers have markedly higher crash risks than older truck drivers.”

Three safety advocacy organizations commented, and all believed that the pilot program was not designed to ensure that the requisite level of safety would be maintained if younger drivers were permitted to operate CMVs in interstate commerce. The Advocates for Highway and Automobile Safety commented:

[The proposed program] defies prevailing research findings of long standing. No studies assessing the value of young [CMV] driver training programs has demonstrated a sustained beneficial effect in the area of crash or accident rates among young drivers. In fact, the opposite can be demonstrated—higher crash and accident rates among trained youth, who may become overconfident and more likely to take risks.

Most of the national trade or trucking associations that commented were in favor of conducting a pilot program. They believed that the level of safety required by statute for the pilot program could be maintained, and that the pilot would help with the shortage of truck drivers in the industry. The American Trucking Associations (ATA) noted that the pilot program provided preparation and training that far exceeded that which beginning CMV drivers receive today. The ATA believes that the pilot “should enhance the * * * end product, a qualified driver.” The joint statement of the American Automobile Association, the American Association of Motor Vehicle Administrators, the Commercial Vehicle Safety Alliance, and the National Association of Governor's Highway Safety Representatives advised caution, but stated that “the high crash rates of younger [CMV] drivers can be overcome by effective training, real-world driving experience, and mentoring.”

Most of the State trucking associations that commented were also in favor of conducting a pilot program. These commenters emphasized the fact that 48 States currently allow drivers under the age of 21 to operate CMVs in intrastate commerce, and many of these allow individuals as young as 18 years of age to operate commercial motor vehicles. Several of the State trucking associations indicated that the State accident history of CMV operators under age 21 was no worse than that of older operators of CMVs.

Motor carriers who commented favorably concerning the younger driver pilot program had a favorable experience in hiring younger drivers for intrastate operations, and they were confident that the pilot safeguards were adequate to ensure highway safety. Most of the motor carriers opposed to the pilot believed that it is too risky to permit individuals under the age of 21 to operate CMVs in interstate commerce because they lack the maturity necessary to safely operate CMVs.

Among the comments received from educational institutions engaged in training truck drivers, three commenters supported the concept of a pilot program as proposed by TCA, and one opposed the program. The Commercial Vehicle Training Association, a trade group whose membership includes 34 training schools for commercial motor vehicle drivers, favored adoption of the pilot, indicating that it thought that “the standards for selection, training, and driver finishing were much more stringent than those currently in place in the industry.”

Most of the State agencies that responded indicated that their States allow individuals under the age of 21 to operate CMVs in intrastate commerce. Six (6) States discussed their safety experience with intrastate CMV drivers under the age of 21. The data was conflicting: Agencies from the States of Montana, Illinois, Vermont, and Virginia indicated that their statistics show that CMV drivers under age 21 pose no greater crash risk than other age groups; agencies from the States of California and Iowa stated that their statistics show that CMV drivers under age 21 have a higher crash rate than that of older truck drivers.

FMCSA Response

The FMCSA believes that the commenters have presented compelling arguments both in support of, and in opposition to, the TCA petition to initiate a pilot program. However, for reasons set forth below, the agency believes there is insufficient information at this time to make a preliminary determination as to whether the terms and conditions of the pilot program that TCA requested would achieve a level of safety equivalent to, or greater than, that provided by the current prohibition against drivers under the age of 21.

The agency does not believe that all drivers between the ages of 18 and 21 should be viewed as a safety risk while at the controls of a CMV, regardless of the requirements that would be imposed upon them. However, there is little information currently available to support the contention that young CMV drivers selected through a rigorous screening process, and groomed through an intensive training and mentoring program, would have safety performance records comparable to CMV drivers 21 years of age or older. The comments to the docket provide a clear indication to the agency that the potential safety impacts of a pilot program cannot be determined with any degree of certainty at this time. Therefore, we believe that it would be inappropriate to pursue a pilot program until there is additional information and data on which to base a preliminary determination about the potential safety impacts of allowing younger drivers to operate in interstate commerce.

While commenters offered ample evidence that individuals aged 18 to 21, as a group, are more prone to risk-taking behavior, we do not believe that this information, in and of itself, suggests that this universe of drivers are all unfit to operate a CMV in interstate commerce. Highway safety statistics concerning the over-representation of younger drivers in accidents of all types of motor vehicles provides a vivid, but indiscriminate, picture of safety problems with these drivers. This information represents the cumulative safety performance record of all young adults operating all types of motor vehicles on the Nation's highways, most of whom may never have expressed an interest in becoming a professional CMV driver. We do not believe, however, that such information should be considered as the determining factor in deciding whether young adults committed to exploring a career driving commercial motor vehicles could do so safely.

With regard to the terms and conditions spelled out in TCA's proposal, the FMCSA believes that a program comprised of screening, training, and mentoring is likely to bring about a higher level of safety performance for a given group of drivers than they would otherwise have experienced. Yet, because of the limited information and data about young CMV drivers (between the ages of 18 and 21), the agency is unable to conclude that the baseline safety performance of these younger drivers is sufficiently close to that of older drivers of CMVs, such that screening, training, and mentoring would improve their performance and enable them to achieve safety performance levels equivalent to or greater than older drivers. Denial of the TCA petition should not be construed as a rejection of the argument that screening, training, and mentoring could improve the safety performance of younger CMV drivers. But, the TCA petition, as submitted, does not demonstrate that a pilot program for younger CMV drivers is warranted at this time.

FMCSA's Decision

For the reasons given above, the FMCSA is denying the petition of the Truckload Carriers Association to establish a pilot program for CMV drivers between the ages of 18 and 21. We believe that proper screening, training, and mentoring are likely to improve the safety performance of any given group of drivers. However, based on the information provided by the petitioner and commenters, the agency is unable to determine that the safety measures in this proposed pilot project are designed to achieve a level of safety equivalent to, or greater than, the level obtained by complying with the safety regulations.

Authority: 49 U.S.C. 31136 and 31315; and 49 CFR 1.73.

Issued on: June 4, 2003.
Annette M. Sandberg,
Acting Administrator.

[FR Doc. 03-14445 Filed 6-6-03; 8:45 am]

BILLING CODE 4910-EX-P